DEPARTMENT OF THE TREASURY

Submission for OMB Review; Comment Request

July 23, 2001.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before August 29, 2001 to be assured of consideration.

U.S. CUSTOMS SERVICE (CUS)

OMB Number: 1515-0005.

Form Number: Customs Forms 7512A and 7512B.

Type of Review: Extension.

Title: Transportation Entry and Manifest of Goods Subject to Customs Inspection and Permit.

Description: This collection which is submitted on Customs Form 7512A and B, serves as a transportation entry and manifest of goods subject to Customs inspection and permit.

Respondents: Business or other for-profit, Individuals or households, Not-for-profit institutions.

Estimated Number of Respondents: 10,000.

Estimated Burden Hours Per Respondent: 6 minutes.

Frequency of Response: On occasion.

Estimated Total Reporting Burden: 56,000 hours.

OMB Number: 1515-0009.

Form Number: Customs Form 3495.

Type of Review: Extension.

Title: Application for Exportation of Articles under Special Bond.

Description: This collection is used by importers for articles which may be entered temporarily into the United States and are free of duty under bond and which are exported within one year from the date of importation.

Respondents: Business or other for-profit, Individuals or households, Not-for-profit institutions.

Estimated Number of Respondents: 15,000.

Estimated Burden Hours Per Respondent: 8 minutes.

Frequency of Response: On occasion.

Estimated Total Reporting Burden: 2,000 hours.

OMB Number: 1515-0161.

Form Number: None.

Type of Review: Extension.

Title: Importation of Ethyl Alcohol for Non-Beverage Purposes.

Description: This collection is a declaration claiming duty-free entry is filed by the broker or their agent and then is transferred with other documentation to the Bureau of Alcohol, Tobacco and Firearms.

Respondents: Business or other for-profit, Individuals or households, Not-for-profit institutions.

Estimated Number of Respondents: 300.

Estimated Burden Hours Per Respondent: 5 minutes.

Frequency of Response: On occasion.

Estimated Total Reporting Burden: 25 hours.

Clearance Officer: Tracey Denning (202) 927-1429 U.S. Customs Service, Information Services Branch, Ronald Reagan Building, 1300 Pennsylvania Avenue, NW., Room 3.2.C, Washington, DC 20229.

OMB Reviewer: Alexander T. Hunt (202) 395-7860, Office of Management and Budget, Room 10202, New Executive Office Building, Washington, DC 20503.

Mary A. Able,
Departmental Reports Management Officer.

[FR Doc. 01-18917 Filed 7-27-01; 8:45 am]

BILLING CODE 4820-02-P